DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605-56606 as amended November 6, 1995; and as last amended at 73 FR 4877, dated January 28, 2008.)

This notice reflects organizational changes in the Health Resources and Services Administration, Bureau of Health Professions (RP). Specifically, this notice updates the mission statement of the Bureau of Health Professions (RP) and updates the functional statements of the Bureau of Health Professions.

Chapter RP, Office of the Administrator

Section RP, 00 Mission

Delete in its entirety and replace with the following:

Increase the population's access to health care by providing national leadership in the development, distribution and retention of a diverse, culturally competent health workforce that can adapt to the population's changing health care needs and provide the highest quality of care for all.

Section RP-10, Organization

Delete in its entirety and replace with the following:

The Bureau of Health Professions (BHPr) is headed by an Associate Administrator, who reports directly to the Administrator, Health Resources and Services Administration. The Bureau of Health Professions includes the following components:

(1) Office of the Associate Administrator (RP);

(2) Office of Shortage Designation (RP2);

(3) Office of Workforce Policy and Performance Management (RP3);

(4) Division of Nursing (RPB);

(5) Division of Medicine and Dentistry (RPC);

(6) Division of Student Loans and Scholarships (RPD);

(7) Division of Diversity and Interdisciplinary Education (RPF); and

(8) Division of Practitioner Data Banks (RPG).

Section RP-20, Functions

Delete the functional statement for the Bureau of Health Professions (RP) in its entirety and replace it with the following:

Bureau of Health Professions (RP)

Provides national leadership in coordinating, evaluating, and supporting the development and utilization of the Nation's health personnel. Specifically: (1) Directs the national health professions education, student assistance, and development programs and activities; (2) provides policy guidance and staff direction to the Bureau; (3) maintains liaison with other Federal and non-Federal organizations and agencies with health personnel development interest and responsibilities; (4) provides guidance and direction for technical assistance activities in the international aspects of health personnel development; (5) provides guidance and assistance to the Regional Health Administrators or regional staff as appropriate; (6) directs and coordinates Bureau programs in support of Equal Employment Opportunity; (7) coordinates and provides guidance on the Freedom of Information Act and Privacy Act activities; (8) plans, directs, coordinates, and evaluates Bureau-wide administrative management activities; and (9) serves as the Bureau's focal point for correspondence control.

Office of Shortage Designation (RP2)

Provides national leadership and management of the designation of health professional shortage areas and medically-underserved populations. Specifically: (1) Maintains and enhances the Agency's critical role in the Nation's efforts to address equitable distribution of health professionals and access to health care for underserved populations; (2) encourages and fosters an ongoing, positive working relationship with other Federal, State and private sector partners regarding health professional shortage areas and medically-underserved populations; (3) approves designation requests and finalizes designation policies and procedures for both current and proposed designation criteria; (4) negotiates and approves State designation agreements (e.g., use of databases, population estimates, Statewide Rational Service Areas); and (5) oversees grants to State primary care offices.

Office of Workforce Policy and Performance Management (RP3)

Serves as the Bureau focal point for program planning, evaluation, coordination, and analysis, including analysis and operations review of Information Management systems; health professions data analysis and research; and for health professions quality assurance efforts. Maintains liaison with governmental, professional, voluntary, and other public and private organizations, institutions, and groups for the purpose of providing information exchange. Specifically the office is responsible for the following activities: (1) Stimulates, guides, and coordinates program planning, reporting, and evaluation activities of the Divisions and staff offices; (2) provides staff services to the Associate Administrator for program and strategic planning and its relation to the budgetary and regulatory processes; (3) develops issue papers and Congressional reports relating to Bureau programs; (4) coordinates the development and implementation of the Bureau's evaluation program; (5) coordinates Bureau performance measurement and reporting; (6) sponsors and conducts research, special studies, and forecasting models on important issues that affect the national, State and local health workforce including studies relevant to current and future policies of the Bureau and their impact on the supply and demand for health professionals and the health industry at large; (7) provides technical assistance to States, educational institutions, professional associations and other Federal agencies relative to health personnel analytical information and analysis; and (8) develops and coordinates the Bureau data collection and modeling in conjunction with other entities involved in data collection and analysis, such as the Agency for Healthcare Research and Quality (AHRQ), the National Center for Health Statistics (NCHS), the Centers for Medicare and Medicaid Services (CMS), and the Administration on Aging (AOA).

Division of Nursing (RPB)

Serves as the principal focus for nursing education and practice. Specifically: (1) Provides national leadership and professional nursing expertise in the areas of policy development, budget, planning, coordination, evaluation and utilization of nursing personnel resources; (2) serves, on behalf of the Secretary, as the Chair of the National Advisory Council on Nurse Education and Practice; (3) supports and conducts programs which address the development, supply, utilization, and quality of nursing personnel; (4) promotes the involvement of States and communities in developing and administering nursing programs and assists States and communities in improving nursing services and educational programs; (5) encourages coordination of nursing-related issues within and across Departmental entities; (6) facilitates coordination of nursing-related issues with other governmental agencies and consults with them on national or international nursing workforce planning and development issues; (7) maintains liaison with external health professional groups, the academic community, consumers, and State and community groups with a common interest in the Nation's capacity to deliver nursing services; (8) advances and promotes the development of effective models of nursing practice and education; (9) stimulates initiatives in the area of international nursing information exchange and nursing workforce planning and development; and (10) provides overall direction and management to the Division for both human and financial resources.

Division of Medicine and Dentistry (RPC)

Serves as the principal focus with regard to education, practice, and research of health personnel, with special emphasis on allopathic and osteopathic physicians, podiatrists, dentists, physician assistants and clinical psychologists. Specifically: (1) Provides professional expertise in the direction and leadership required by the Bureau for planning, coordinating, evaluating, and supporting development and utilization of the Nation's health personnel for these professions; (2) supports and conducts programs with respect to the need for and the development, use, credentialing, and distribution of such personnel; (3) engages with other Bureau programs in cooperative efforts of research, development, and demonstration on the interrelationships between the members of the health care team, their tasks, education requirements, training modalities, credentialing and practice; (4) conducts and supports studies and evaluations of physician, dentist, physician assistant, podiatrist and clinical psychologist personnel requirements, distribution and availability, and cooperates with other components of the Bureau and Agency in such studies; (5) analyzes and interprets physician, dental, physician assistant, podiatrist and clinical psychologist programmatic data collected from a variety of sources; (6) conducts, supports, or obtains analytical studies to determine the present and future supply and requirements of physicians, dentists, physician assistants, podiatrists and clinical psychologists by specialty and geographic location, including the linkages between their training and practice characteristics; (7) conducts and supports studies to determine potential national goals for the training and distribution of physicians in graduate medical education programs and develops alternative strategies to accomplish these goals; (8) supports and conducts programs with respect to activities associated with the international migration, domestic training, and utilization of foreign medical graduates and U.S. citizens studying abroad; (9) maintains liaison with relevant health professional groups and others, including consumers, having common interest in the Nation's capacity to deliver health services; (10) provides consultation and technical assistance to public and private organizations, agencies, and institutions, including Regional Offices, other agencies of the Federal Government, and international agencies and foreign governments on all aspects of the Division's functions; (11) provides administrative and staff support for the Advisory Committee on Training and Primary Care Medicine and Dentistry and for the Council on Graduate Medical Education; (12) represents the Bureau, Agency and Federal Government, as designated, on national committees and/or the Accreditation Council for Graduate Medical Education (ACGME) and the Accreditation Council for Continuing Medical Education (ACCME); (13) administers support programs for the development, improvement, and the operation of general, pediatric, and public health dental educational programs; (14) designs, administers and supports activities relating to dentists; (15) provides technical assistance and consultation to grantee institutions and other governmental and private organizations on the operation of these educational programs; (16) promotes the dissemination and application of findings arising from programs supported; (17) develops congressional and other mandated or special program-specific reports and publications on dental educational processes, programs and approaches; and (18) promotes, plans, and develops collaborative educational activities in clinical psychology.

Division of Student Loans and Scholarships (RPD)

Serves as the focal point for overseeing loan and scholarship programs supporting health professionals. Specifically: (1) Directs and administers the Health Professions and Nursing Student Loan and Scholarship Programs, the Federal Assistance to Disadvantaged Health Professions Scholarship Program, the Health Educational Assistance Loan Program, the Primary Care Loan Program, and the Nurse Faculty Loan Program; (2) monitors and assesses educational and financial institutions with respect to capabilities and management of Federal support for students and of tracking of obligatory service requirements; (3) develops and conducts training activities for staff of educational and financial institutions; (4) maintains liaison with and provides assistance to program-related public and private professional organizations and institutions; (5) maintains liaison with the Office of the General Counsel, and the Office of the Inspector General, DHHS, components of the Department of Education and the Department of Defense, and State agencies concerning student assistance; (6) coordinates financial aspects of programs with educational institutions; and (7) develops program data needs, formats, and reporting requirements, including collection, collation, analysis and dissemination of data.

Division of Diversity and Interdisciplinary Education (RPF)

Serves as the principal focal point for interdisciplinary health professions issues and programs, including geriatric training, and for activities to increase the diversity of the health professional workforce. Specifically: (1) Provides leadership and direction for the development and implementation of Bureau objectives as they relate to diverse and disadvantaged populations; (2) develops and recommends health resources and health career opportunities for diverse and disadvantaged populations; (3) initiates, stimulates, supports, coordinates, and evaluates Bureau programs for improving the availability and accessibility of health careers for diverse and disadvantaged populations; (4) conducts special studies and collects baseline data to identify specific factors contributing to the health and health-related problems of diverse and disadvantaged populations, and to develop strategies for improving health services and career opportunities for diverse and disadvantaged populations; (5) conducts extramural programs, including the use of grants and contracts, specifically designed to promote equity in access to health careers; (6) promotes, designs, supports and administers activities relating to the planning and development of nationally integrated health professions education programs; (7) promotes, plans and develops collaborative, interdisciplinary activities in the specialty areas of behavioral/mental health, rural health, geriatrics and the associated health professions, and other new and developing health disciplines; (8) promotes quality improvement in health professions education through collaboration and partnerships with national and international institutes and centers for quality improvement; (9) promotes and supports academic-community partnerships whose goal is the development of interdisciplinary, community-based programs designed to improve access to health care through improving the quality of health professions education and training; (10) serves as the Federal focus for the development and improvement of education for professional public health, preventive medicine, environmental health, and health administration practice, including undergraduate, graduate, and continuing professional development; and (11) provides administrative and staff support for the Advisory Committee on Interdisciplinary, Community-Based Linkages.

Division of Practitioner Data Banks (RPG)

Coordinates with the Department and other Federal entities, State licensing boards, and national, State and local professional organizations to promote quality assurance efforts and deter fraud and abuse by administering the National Practitioner Data Bank (NPDB) as authorized under Title IV of the Health Care Quality Improvement Act of 1986 and Section 5 of the Medicare and Medicaid Patient and Program Protection Act of 1987, and administering the Healthcare Integrity and Protection Data Bank (HIPDB) for the Office of Inspector General. Specifically: (1) Maintains active consultative relations with professional organizations, societies, and Federal agencies involved in the NPDB and HIPDB; (2) develops, proposes and monitors efforts for (a) credentials assessment, granting of privileges, and monitoring and evaluating programs for physicians, dentists, and other health care professionals including quality assurance, (b) professional review of specified medical events in the health care system including quality assurance, and (c) risk management and utilization reviews; (3) encourages and supports evaluation and demonstration projects and research concerning quality assurance, medical liability and malpractice; (4) conducts and supports research based on NPDB and HIPDB information; (5) works with the Secretary's office to provide technical assistance to States undertaking malpractice reform; and (6) maintains liaison with the Office of the General Counsel and the Office of Inspector General, HHS concerning practitioner licensing and data bank issues.

Section RC-30, Delegations of Authority

All delegations of authority and re-delegations of authority made to HRSA officials that were in effect immediately prior to this reorganization, and that are consistent with this reorganization, shall continue in effect pending further re-delegation.

This reorganization is effective upon the date of signature.

Dated: February 19, 2008.
Elizabeth M. Duke,
Administrator.

[FR Doc. E8-4601 Filed 3-7-08; 8:45 am]

BILLING CODE 4165-15-P